DEPARTMENT OF ENERGY

Federal Energy Regulatory Commission

[Docket No. RP11-1479-000]

BP Canada Energy Marketing Corp. Apache Corporation; Notice for Temporary Waivers

November 1, 2010.

Take notice that on October 29, 2010, BP Canada Energy Marketing Corp. and Apache Corporation filed with the Federal Energy Regulatory Commission a Joint Petition for temporary waivers of the Commission's capacity release regulations and policies along with the associated interstate pipeline transportation tariff provisions and a request for expedited action.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before 5 p.m. Eastern time on the specified comment date. Anyone filing a motion to intervene or protest must serve a copy of that document on the Petitioners. On or before the comment date, it is not necessary to serve motions to intervene or protests on persons other than the Petitioners.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Comment Date: 5 p.m.Eastern Time on Friday, November 5, 2010.

Kimberly D. Bose,
Secretary.

[FR Doc. 2010-28125 Filed 11-5-10; 8:45 am]

BILLING CODE 6717-01-P